POSTAL SERVICE

International Product Change—Global Reseller Expedited Package Contracts

AGENCY: Postal Service™.

ACTION: Notice.

SUMMARY: The Postal Service gives notice of filing a request with the Postal Regulatory Commission to add Global Reseller Expedited Package Contracts to the Competitive Products List pursuant to 39 U.S.C. 3642.

DATES: April 6, 2010.

FOR FURTHER INFORMATION CONTACT: Margaret M. Falwell, 703-292-3576.

SUPPLEMENTARY INFORMATION: The United States Postal Service® hereby gives notice that it has filed with the Postal Regulatory Commission a Request of the United States Postal Service to add Global Reseller Expedited Package Contracts to the Competitive Products List, and Notice of Filing (Under Seal) of Contract and Enabling Governors' Decision. Documents are available at http://www.prc.gov, Docket Nos. MC2010-21 and CP2010-36.

Neva R. Watson,
Attorney, Legislative.

[FR Doc. 2010-7762 Filed 4-5-10; 8:45 am]

BILLING CODE 7710-12-P